NUCLEAR REGULATORY COMMISSION

Advisory Committee on Reactor Safeguards (ACRS); Meeting of the ACRS Subcommittee on Digital I&C; Cancellation of the May 17, 2016, ACRS Subcommittee Meeting

The ACRS Subcommittee meeting on Digital I&C scheduled for May 17, 2016, 1:00 p.m. until 5:00 p.m., has been cancelled.

The notice of this meeting was previously published in the Federal Register on Wednesday, April 27, 2016, (81 FR 24894).

Information regarding this meeting can be obtained by contacting Christina Antonescu, Designated Federal Official (DFO) (Telephone 301-415-6792 or Email: Christina.Antonescu@nrc.gov) between 7:30 a.m. and 5:15 p.m. (EST)).

Dated: April 28, 2018.
Mark L. Banks,
Chief, Technical Support Branch, Advisory Committee on Reactor Safeguards.

[FR Doc. 2016-10818 Filed 5-6-16; 8:45 am]

BILLING CODE 7590-01-P